ENVIRONMENTAL PROTECTION AGENCY

[ER-FRL-6655-2]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements(EISs) was published in FR dated April 2, 2004 (69 FR 17403).

Draft EISs

ERP No. D-AFS-J65414-UT Rating EC2, State of Utah School and Institutional Trust Lands Administration (SITLA) Access Route on East Mountain, National Forest System Lands Administered by Mantila Sal National Forest,Ferron/Price Ranger District, Emery Counties,UT.

Summary: EPA expressed concerns related to impacts on the inventoried roadless area from logging, oil and gas wells, road construction, and gravel pit and vehicle use.

ERP No. D-AFS-J65415-MT Rating EC2, Robert-Wedge Post-Fire Project, Salvage Trees and Rehabilitate Lands, Flathead National Forest,Glacier View Ranger District, Flathead County, MT.

Summary: EPA expressed concern that logging in areas of high-burn severity may result in increased erosion and sediment production. EPA recommended additional use of less damaging logging techniques such as helicopter logging or logging during winter on snow or frozen ground.

ERP No. D-COE-F32197-MS Rating EC2, Programmatic EIS—Upper Mississippi River and Illinois Waterway System Navigation Feasibility Study (UMR-IWW), Addressing Navigation Improvement Planning and Ecological Restoration Needs, MS, IL, IA, MN, MO, WI.

Summary: EPA expressed concerns centering on how implementation of the proposed new management strategies would influence the ecological future of the Upper Mississippi River System. Specific concerns focused on defining the purpose and need, adaptive management and phased project approach, alternatives analysis, institutional arrangements, and ecosystem restoration, and mitigation/impact analysis.

ERP No. D-COE-L32012-AK Rating EC2, Unalaska Navigation Improvements Project,Construction of Harbor on Amaknak Island in Aleutian Island Chain, Locally known as “Little South America, Integrated Feasibility Report,Aleutian Island, AK.

Summary: EPA expressed concerns that the proposed mitigation may not be adequate to compensate for productive intertidal and subtidal habitat adversely impacted by the project. EPA requested that the Corps consider additional mitigation at sites identified in the draft EIS or other sites if appropriate. EPA also requested that the final EIS provide additional information on impacts to impaired waters listed under Section 303(d) of the Clean Water Act, analysis of alternative sites, and impacts to subsistence resources and minority populations.

ERP No. D-DOE-J91000-MT Rating EC2,South Fork Flathead Watershed Westslope Cutthroat Trout Conservation Program, Preserve the Genetic Purity of the Westslope Cutthroat Trout Population, Flathead National Forest, Flathead River, Flathead, Powell and Missoula Counties, MT.

Summary: EPA expressed concerns about the need for additional information regarding: project monitoring and evaluation and the adaptive management program; contingency plans if treatments do not eradicate the entire hybrid trout population, and in the event of continuing illegal reintroduction of non-native trout after the proposed treatments, and spills or releases of hazardous chemicals; more complete identification of the advantages and disadvantages of proposed fish toxins; and the restocking program.

ERP No. D-IBR-H39011-00 Rating EC2, Programmatic EIS—Platte River Recovery Implementation Program, Assessing Alternatives, Cooperative, Endangered Species Recovery Program, The Four Target Species are Whooping Crane, Interior Least Tern, Piping Plover and Pallid Sturgeon, NB, WY and CO.

Summary: EPA expressed concerns related to wetlands impacts and water quality impacts.

Final EISs

ERP No. F-AFS-J65409-MT Lower Big Creek Project, Timber Harvest and Prescribed Burning, Implementation, Kootenai National Forest Plan, Rexford Ranger District, Lincoln County, MT.

Summary: EPA expressed environmental concerns with potential adverse impacts from sediment production and transport from logging and associated road reconstruction, and with uncertain funding for implementation of all the proposed restoration.

ERP No. F-DOE-L02032-OR COB Energy Facility, Construction of a 1,160-megawatt (MW) Natural Gas-Fired and Combined-Cycle Electric Generating Plant, Right-of-Way Permit cross Federal Land under the Jurisdiction of BLM, Klamath Basin, Klamath County, OR.

Summary: No comment letter was sent to the preparing agency.

ERP No. F-NAS-E12006-FL International Space Research Park (ISRP) to Bring New Research and Development Uses to the John F. Kennedy Center, Brevard County, FL.

Summary: EPA continues to have no environmental objections to the proposed research center.

ERP No. F-NRC-F06022-IL Quad Cities Nuclear Power Station Units 1 and 2, Supplement 16 to NUREG-1437, License Renewal, IL.

Summary: EPA continues to express environmental concern related to impacts from power uprates and on-site waste storage, sediment contamination and estimates of risk.

ERP No. F-NRC-F06023-IL Dresden Nuclear Power Station, Unit 2 and 3, Supplement 17, NUREG 1437, Renewal of a Nuclear Power Plant Operating License, Grundy County, IL.

Summary: EPA continues to express environmental concerns related to cooling water system impacts, and on-site waste storage.

ERP No. F-NRS-E36181-TN Cane Creek Watershed Remedial Plan, Widening and Degradation of the Cane Creek Channel, Lauderdale County, TN.

Summary: EPA is supportive of the efforts to improve environmental amenities within the project effect's area and, therefore, has no objection to the action as proposed.

ERP No. F-USN-E11051-MS Purchase of Land in Hancock County, Mississippi, for a Naval Special Operations Forces Training Range, To Improve Riverine and Jungle Training Availabilities, John C. Stennis Space Center, Hancock County, MS.

Summary: EPA has no objections to the proposed land purchase.

ERP No. F1-AFS-E65031-KY Gray Mountain Coal Lease Land Use Analysis, Application for Leasing Tracts 3094Bb, 3049Be and 3049Az, Daniel Boone National Forest, Leslie County, KY.

Summary: EPA has no objections to the project, provided mitigation measures and monitoring are implemented as described in the Final EIS.

Dated: August 24, 2004.
Robert W. Hargrove,
Director, NEPA Compliance Division, Office of Federal Activities.

[FR Doc. 04-19617 Filed 8-26-04; 8:45 am]

BILLING CODE 6560-50-P